DEPARTMENT OF ENERGY

Federal Energy Regulatory Commission

[Docket Nos. EC06-121-000, et al.]

American Electric Power Service Corporation, et al.; Electric Rate and Corporate Filings

May 24, 2006.

The following filings have been made with the Commission. The filings are listed in ascending order within each docket classification.

1. American Electric Power Service Corporation

[Docket No. EC06-121-000]

Take notice that on May 19, 2006, American Electric Power Service Corporation (AEP) on behalf of AEP Texas North Company (TNC) and AEP Texas North Generation Company, LLC (TNGC) filed an application pursuant to section 203 of the Federal Power Act seeking an order approving a transaction whereby TNC will transfer the ownership of seven mothballed/retired generation facilities to TNGC, a wholly owned subsidiary of TNC. AEP states that this transaction will enable AEP to comply with the Texas unbundling statutes.

Comment Date: 5 p.m. Eastern Time on June 9, 2006.

2. Interstate Power & Light Company

[Docket No. ER06-587-002]

Take notice that on April 27, 2006, IES Utilities, Inc. FERC Schedule No. RES-4 and the Interstate Power Company, FERC Schedule No. 499 tariff sheets are cancelled April 1, 2006 and July 1, 2006 respectively.

Comment Date: 5 p.m. Eastern Time on May 31, 2006.

3. Intermountain Industries, Inc.

[Docket No. PH06-65-000]

Take notice that on May 17, 2006, Intermountain Industries, Inc. filed a notice of petition for waiver of the Commission's regulations under the Public Utility Holding Company Act of 2005.

Comment Date: 5 p.m. Eastern Time on June 7, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-8343 Filed 5-30-06; 8:45 am]

BILLING CODE 6717-01-P